DEPARTMENT OF THE INTERIOR

National Park Service

[NPS-WASO-NAGPRA-NPS0031201; PPWOCRADN0-PCU00RP14.R50000]

Notice of Inventory Completion: The University of California Berkeley, Berkeley, CA

AGENCY: National Park Service, Interior.

ACTION: Notice.

SUMMARY: The University of California Berkeley has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the University of California Berkeley. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the University of California Berkeley at the address in this notice by January 4, 2021.

ADDRESSES: Dr. Thomas Torma, NAGPRA Liaison, Office of the Vice Chancellor for Research, University of California Berkeley, 119 California Hall, Berkeley, CA 94720-1500, telephone (512) 672-5388, email t.torma@berkeley.edu.

SUPPLEMENTARY INFORMATION: Notice is here given in accordance with the Native American Graves Protection and Repatriation Act (NAGPRA), 25 U.S.C. 3003, of the completion of an inventory of human remains and associated funerary objects under the control of the University of California Berkeley, Berkeley, CA. The human remains and associated funerary objects were removed from around Humboldt Bay, Humboldt County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of California Berkeley professional staff in consultation with representatives of the Wiyot Tribe, California (previously listed as Table Bluff Reservation—Wiyot Tribe).

History and Description of the Remains

In the early 20th century, human remains representing, at minimum, 14 individuals were removed from sites CA-HUM-68, CA-HUM-33, CA-HUM-23, and CA-HUM-112 in Humboldt County, CA. These human remains were collected by H.H. Stuart, an amateur archeologist based in Eureka, CA, and were part of a donation that was accessioned into the museum in 1931. Most of the individuals are represented by a very small number of bones, and because the digs were not well documented, the age and the sex of the individuals were not recorded. No known individuals were identified. The one associated funerary object is one set of unidentified animal bones.

Between July and October 1913, human remains representing, at minimum, seven individuals were removed from sites CA-HUM-33, and CA-HUM-37, near the Mad River Slough, in Humboldt County, CA. These human remains were collected by Llewellyn Loud, who was working on an ethnogeographic and archeological survey of the Wiyot people under the direction of Alfred Kroeber. The human remains were accessioned on November 6, 1913. No associated funerary objects are present.

Most of the sites around Humboldt Bay date to the creation of the Bay, approximately 5000-7000 years ago. According to archeological evidence, Wiyot oral tradition, and the written historical record, the Wiyot Tribe has been present in this area since before the creation of Humboldt Bay.

Determinations Made by the University of California Berkeley

Officials of the University of California Berkeley have determined that:

• Pursuant to 25 U.S.C. 3001(9), the human remains described in this notice represent the physical remains of 21 individuals of Native American ancestry.

• Pursuant to 25 U.S.C. 3001(3)(A), the one object described in this notice are reasonably believed to have been placed with or near individual human remains at the time of death or later as part of the death rite or ceremony.

• Pursuant to 25 U.S.C. 3001(2), there is a relationship of shared group identity that can be reasonably traced between the Native American human remains and associated funerary objects and the Wiyot Tribe, California (previously listed as Table Bluff Reservation—Wiyot Tribe).

Additional Requestors and Disposition

Lineal descendants or representatives of any Indian Tribe or Native Hawaiian organization not identified in this notice that wish to request transfer of control of these human remains and associated funerary objects should submit a written request with information in support of the request to Dr. Thomas Torma, NAGPRA Liaison, Office of the Vice Chancellor for Research, University of California Berkeley, 119 California Hall, Berkeley, CA 94720-1500, telephone (512) 672-5388, email t.torma@berkeley.edu, by January 4, 2021. After that date, if no additional requestors have come forward, transfer of control of the human remains and associated funerary objects to the Wiyot Tribe, California (previously listed as Table Bluff Reservation—Wiyot Tribe) may proceed.

The University of California Berkeley is responsible for notifying the Wiyot Tribe, California (previously listed as Table Bluff Reservation—Wiyot Tribe) that this notice has been published.

Dated: November 24, 2020.
Melanie O'Brien,
Manager, National NAGPRA Program.

[FR Doc. 2020-26760 Filed 12-3-20; 8:45 am]

BILLING CODE 4312-52-P